DEPARTMENT OF THE INTERIOR

National Park Service

[2253-665]

Notice of Intent To Repatriate Cultural Item: University of Denver Department of Anthropology and Museum of Anthropology, Denver, CO

AGENCY: National Park Service, Interior.

ACTION: Notice.

SUMMARY: The University of Denver Department of Anthropology and Museum of Anthropology, in consultation with the appropriate Indian tribes, has determined that the cultural item meets the definition of unassociated funerary object and repatriation to the Indian tribes stated below may occur if no additional claimants come forward. Representatives of any Indian tribe that believes itself to be culturally affiliated with the cultural item may contact the University of Denver Department of Anthropology and Museum of Anthropology.

DATES: Representatives of any Indian tribe that believes it has a cultural affiliation with the cultural item should contact the University of Denver Department of Anthropology and Museum of Anthropology at the address below by May 21, 2012.

ADDRESSES: Anne Amati, NAGPRA Coordinator/Registrar, University of Denver Department of Anthropology and Museum of Anthropology, 2000 E. Asbury, Sturm 146, Denver, CO 80208, telephone (303) 871-2687.

SUPPLEMENTARY INFORMATION: Notice is here given in accordance with the Native American Graves Protection and Repatriation Act (NAGPRA), 25 U.S.C. 3005, of the intent to repatriate a cultural item in the possession of the University of Denver Department of Anthropology and Museum of Anthropology, Denver, CO (DUMA), that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Items

The one cultural object (no. 4217) consists of burned wooden and cord wrapped fragments attached to a glass slide. The cultural object came into the possession of Fallis F. Rees at an unknown date. In 1968, Mr. Rees donated his collection, including this item, to the University of Denver.

In consultation with Santa Rosa Indian Community of the Santa Rosa Rancheria representatives, this object was determined to be an unassociated funerary object under NAGPRA. Geographical and anthropological evidence supports cultural affiliation with the Santa Rosa Indian Community of the Santa Rosa Rancheria. Museum records indicate that the burned fragments originated from a cremation burial at Vernon Mound, in Sacramento County, CA. Santa Rosa Indian Community of the Santa Rosa Rancheria representatives provided maps identifying aboriginal territory inclusive of Sacramento County as well as an ethnographic report identifying cremation as a traditional Yokut funerary practice.

Determinations Made by the University of Denver Department of Anthropology and Museum of Anthropology

Officials of the University of Denver Department of Anthropology and Museum of Anthropology have determined that:

• Pursuant to 25 U.S.C. 3001(3)(B), the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and the Santa Rosa Indian Community of the Santa Rosa Rancheria, California.

Additional Requestors and Disposition

Representatives of any other Indian tribe that believes itself to be culturally affiliated with the unassociated funerary object should contact Anne Amati, University of Denver Department of Anthropology and Museum of Anthropology, 2000 E Asbury Ave., Sturm 146, Denver, CO 80208, telephone (303) 871-2687, before May 21, 2012. Repatriation of the unassociated funerary object to the Santa Rosa Indian Community of the Santa Rosa Rancheria, California, may proceed after that date if no additional claimants come forward.

The University of Denver Department of Anthropology and Museum of Anthropology is responsible for notifying the Buena Vista Rancheria of Me-Wuk Indians of California; California Valley Miwok Tribe, California; Chicken Ranch Rancheria of Me-Wuk Indians of California; Ione Band of Miwok Indians of California; Jackson Rancheria of Me-Wuk Indians of California; Middletown Rancheria of Pomo Indians of California; Picayune Rancheria of Chukchansi Indians of California; Santa Rosa Indian Community of the Santa Rosa Rancheria, California; Shingle Springs Band of Miwok Indians, Shingle Springs Rancheria (Verona Tract), California, Table Mountain Rancheria of California; Tule River Indian Tribe of the Tule River Reservation, California; and the Tuolumne Band of Me-Wuk Indians of the Tuolumne Rancheria of California that this notice has been published.

Dated: April 12, 2012.
David Tarler,
Acting Manager, National NAGPRA Program.

[FR Doc. 2012-9459 Filed 4-18-12; 8:45 am]

BILLING CODE 4312-50-P